U.S.-CHINA ECONOMIC AND SECURITY REVIEW COMMISSION

Notice of Open Public Hearing

AGENCY: U.S.-China Economic and Security Review Commission.

ACTION: Notice of open public hearing—February 7, 2008, Washington, DC.

SUMMARY: Notice is hereby given of the following hearing of the U.S.-China Economic and Security Review Commission.

Name: Larry Wortzel, Chairman of the U.S.-China Economic and Security Review Commission.

The Commission is mandated by Congress to investigate, assess, evaluate and report to Congress annually on “the national security implications and impact of the bilateral trade and economic relationship between the United States and the People's Republic of China.”

Pursuant to this mandate, the Commission will hold a public hearing in Washington, DC on February 7, 2008 to address “The Implications of Sovereign Wealth Fund Investment on National Security.”

Background

This event is the first in a series of public hearings the Commission will hold during its 2008 report cycle to collect input from leading experts in academic, business, industry, government and the public on the impact of the economic and national security implications of the U.S. bilateral trade and economic relationship with China. The February 7 hearing is being conducted to obtain commentary about the status of U.S.-China relations, from economic, security, and diplomatic perspectives, in order to assess the progress of our bilateral relationship since the granting of permanent normalized trade relations to China, and to identify the challenges facing our relationship in 2008. The February 7 hearing will address “The Implications of Sovereign Wealth Fund Investment on National Security” and will be Co-chaired by Chairman Larry M. Wortzel and Commissioner Patrick A. Mulloy.

Information on this hearing, including a detailed hearing agenda and information about panelists, will be made available on the Commission's Web site prior to the hearing date. Detailed information about the Commission, the texts of its annual reports and hearing records, and the products of research it has commissioned can be found on the Commission's Web site at http://www.uscc.gov.

Any interested party may file a written statement by February 7, 2008, by mailing to the contact below. On February 7, the hearing will be held in two sessions, one in the morning and one in the afternoon. Commissioners will take testimony from invited witnesses, and there will be a question and answer period among the Commissioners and the witnesses.

DATE AND TIME: Thursday, February 7, 2008, 8:30 a.m. to 5 p.m. Eastern Standard Time. A detailed agenda for the hearing will be posted to the Commission's Web site at http://www.uscc.gov in the near future.

ADDRESSES: The hearing will be held on Capitol Hill in Room 562 Dirksen Senate Office Building located at First Street and Constitution Avenue, NE., Washington, DC 20510. Public seating is limited to about 50 people on a first come, first served basis. Advance reservations are not required.

FOR FURTHER INFORMATION CONTACT: Kathy Michels, Associate Director for the U.S.-China Economic and Security Review Commission, 444 North Capitol Street, NW., Suite 602, Washington, DC 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: January 15, 2008.
Kathleen J. Michels,
Associate Director, U.S.-China Economic and Security Review Commission.

[FR Doc. E8-956 Filed 1-18-08; 8:45 am]

BILLING CODE 1137-00-P